DEPARTMENT OF JUSTICE

Drug Enforcement Administration

[Docket No. DEA-639]

Bulk Manufacturer of Controlled Substances Application: Alcami Wisconsin Corporation

ACTION: Notice of application.

DATES: Registered bulk manufacturers of the affected basic class(es), and applicants therefore, may file written comments on or objections to the issuance of the proposed registration on or before July 6, 2020.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on March 13, 2020, Alcami Wisconsin Corporation, W130N10497 Washington Drive, Germantown, Wisconsin 53022-4448, applied to be registered as a bulk manufacturer of the following basic class(es) of controlled substances:

Controlled substance | Drug code | Schedule
Marihuana Extract | 7350 | I
Marihuana | 7360 | I
Tetrahydrocannabinols | 7370 | I
5-Methoxy-N-N-dimethyltryptamine | 7431 | I
Thebaine | 9333 | II
Alfentanil | 9737 | II

The company plans to provide bulk active pharmaceutical ingredient to support clinical trials. In reference to drug codes 7350 Marihuana extract, 7360 Marihuana, and 7370 Tetrahydrocannabinols, the company plans to manufacture these substances synthetically. No other activities for these drug codes are authorized for this registration.

William T. McDermott,
Assistant Administrator.

[FR Doc. 2020-09702 Filed 5-6-20; 8:45 am]

BILLING CODE 4410-09-P